DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of October 21, 2013 through November 1, 2013.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) the sales or production, or both, of such firm have decreased absolutely; and

(3) One of the following must be satisfied:

(A) Imports of articles or services like or directly competitive with articles produced or services supplied by such firm have increased;

(B) imports of articles like or directly competitive with articles into which one or more component parts produced by such firm are directly incorporated, have increased;

(C) imports of articles directly incorporating one or more component parts produced outside the United States that are like or directly competitive with imports of articles incorporating one or more component parts produced by such firm have increased;

(D) imports of articles like or directly competitive with articles which are produced directly using services supplied by such firm, have increased; and

(4) the increase in imports contributed importantly to such workers' separation or threat of separation and to the decline in the sales or production of such firm; or

II. Section 222(a)(2)(B) all of the following must be satisfied:

(1) A Significant number or proportion of the workers in such workers' firm have become totally or partially separated, or are threatened to become totally or partially separated;

(2) One of the following must be satisfied:

(A) There has been a shift by the workers' firm to a foreign country in the production of articles or supply of services like or directly competitive with those produced/supplied by the workers' firm;

(B) there has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) the public agency has acquired from a foreign country services like or directly competitive with services which are supplied by such agency; and

(3) the acquisition of services contributed importantly to such workers' separation or threat of separation.

In order for an affirmative determination to be made for adversely affected secondary workers of a firm and a certification issued regarding eligibility to apply for worker adjustment assistance, each of the group eligibility requirements of Section 222(c) of the Act must be met.

(1) a significant number or proportion of the workers in the workers' firm have become totally or partially separated, or are threatened to become totally or partially separated;

(2) the workers' firm is a Supplier or Downstream Producer to a firm that employed a group of workers who received a certification of eligibility under Section 222(a) of the Act, and such supply or production is related to the article or service that was the basis for such certification; and

(3) either—

(A) the workers' firm is a supplier and the component parts it supplied to the firm described in paragraph (2) accounted for at least 20 percent of the production or sales of the workers' firm; or

(B) a loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) the workers' firm is publicly identified by name by the International Trade Commission as a member of a domestic industry in an investigation resulting in—

(A) an affirmative determination of serious injury or threat thereof under section 202(b)(1);

(B) an affirmative determination of market disruption or threat thereof under section 421(b)(1); or

(C) an affirmative final determination of material injury or threat thereof under section 705(b)(1)(A) or 735(b)(1)(A) of the Tariff Act of 1930 (19 U.S.C. 1671d(b)(1)(A) and 1673d(b)(1)(A));

(2) the petition is filed during the 1-year period beginning on the date on which—

(A) a summary of the report submitted to the President by the International Trade Commission under section 202(f)(1) with respect to the affirmative determination described in paragraph (1)(A) is published in the Federal Register under section 202(f)(3); or

(B) notice of an affirmative determination described in subparagraph (1) is published in the Federal Register; and

(3) the workers have become totally or partially separated from the workers' firm within—

(A) the 1-year period described in paragraph (2); or

(B) notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
82,729 | Panduit Corporation, Aerotek | Lockport, IL | May 13, 2012.
82,880 | DAK Americas LLC, Mundy Maintenance, Services and Operations, LLC, Clearwater Loaders, etc | Leland, NC | July 5, 2012.
82,994 | Liberty Tire Services of Ohio, LLC, Liberty Tire Recycling Holdco, LLC | Braddock, PA | August 14, 2012.

The following certifications have been issued. The requirements of Section 222(a)(2)(B) (shift in production or services) of the Trade Act have been met.

TA-W No. | Subject firm | Location | Impact date
82,689 | Emcore Corporation, Emcore Photovoltaic Division | Albuquerque, NM | April 23, 2012.
82,824 | OneWest Bank, OneWest Resources, LLC, Cognizant, Legal People, etc | Austin, TX | June 18, 2012.
82,883 | NCR | Duluth, GA | July 8, 2012.
82,900 | Honeywell International, Inc., Aerospace Order Management Division, Tapfin-Manpower Group Solutions | Phoenix, AZ | July 11, 2012.
82,900A | Honeywell International, Inc., Aerospace Order Management Division, Tapfin-Manpower Group Solutions | Tempe, AZ | July 11, 2012.
82,900B | Honeywell International, Inc., Aerospace Order Management Division, Tapfin-Manpower Group Solutions | Tulsa, OK | July 11, 2012.
82,967 | Johnson Controls, Inc., Building Efficiency Div., Staffmark and Express Employment Professionals | Erlanger, KY | July 21, 2012.
82,993 | Welch Allyn, Kelly Services | Beaverton, OR | August 14, 2012.
82,993A | Welch Allyn, Manufacturing Division, Kelly Services | Skaneateles, NY | August 14, 2012.
83,008 | Quest Diagnostics, IT Infrastructure and IT Applications Support, TATA America Int'l, etc | Addison, TX | August 20, 2012.
83,008A | Quest Diagnostics, IT Infrastructure | Alameda, CA | August 20, 2012.
83,008AA | Quest Diagnostics, IT Infrastructure and IT Applications Support, HCL Technologies and Judge | Las Vegas, NV | August 20, 2012.
83,008B | Quest Diagnostics, IT Infrastructure and IT Applications Support, Judge Technical Services | Cypress, CA | August 20, 2012.
83,008BB | Quest Diagnostics, IT Infrastructure and IT Applications Support, HCL America, etc | Lyndhurst, NJ | August 20, 2012.
83,008C | Quest Diagnostics, IT Applications Support, Henry Elliott &amp; Company, Inc | Northridge, CA | August 20, 2012.
83,008CC | Quest Diagnostics, IT Infrastructure | Teterboro, NJ | August 20, 2012.
83,008D | Quest Diagnostics, IT Applications Support | Sacramento, CA | August 20, 2012.
83,008DD | Quest Diagnostics, IT Infrastructure | Cincinnati, OH | August 20, 2012.
83,008E | Quest Diagnostics, IT Applications Support, HCL America, Iconma LLC, Idea Solutions, etc | San Clemente, CA | August 20, 2012.
83,008EE | Quest Diagnostics, IT Infrastructure | Mason, OH | August 20, 2012.
83,008F | Quest Diagnostics, IT Infrastructure and IT Applications Support, Iconma LLC, Judge Technical | San Juan Capistrano, CA | August 20, 2012.
83,008FF | Quest Diagnostics, IT Applications Support | Portland, OR | August 20, 2012.
83,008G | Quest Diagnostics, IT Applications Support, Iconma LLC | South San Francisco, CA | August 20, 2012.
83,008GG | Quest Diagnostics, IT Applications Support, Judge Technical Services | Chesterbrook, PA | August 20, 2012.
83,008H | Quest Diagnostics, IT Infrastructure and IT Applications Support, HCL America, etc | Valencia, CA | August 20, 2012.
83,008HH | Quest Diagnostics, IT Applications Support, TATA America Int'l Corporation | Collegeville, PA | August 20, 2012.
83,008I | Quest Diagnostics, IT Infrastructure and IT Applications Support | West Hills, CA | August 20, 2012.
83,008II | Quest Diagnostics, IT Infrastructure and IT Applications Support, HCL America, etc | Norristown, PA | August 20, 2012.
83,008J | Quest Diagnostics, IT Applications Support, TATA America Int'l Corporation | Wallingford, CT | August 20, 2012.
83,008JJ | Quest Diagnostics, IT Infrastructure and IT Applications Support, Henry Elliott &amp; Company, etc | Pittsburgh, PA | August 20, 2012.
83,008K | Quest Diagnostics, IT Applications Support, Judge Technical Services | Denver, CO | August 20, 2012.
83,008KK | Quest Diagnostics, IT Infrastructure and IT Applications Support | West Norriton, PA | August 20, 2012.
83,008L | Quest Diagnostics, IT Infrastructure | Deerfield Beach, FL | August 20, 2012.
83,008LL | Quest Diagnostics, IT Applications Support, TATA America Int'l Corporation | Cranston, RI | August 20, 2012.
83,008M | Quest Diagnostics, IT Infrastructure | Orlando, FL | August 20, 2012.
83,008MM | Quest Diagnostics, IT Applications Support | Columbia, SC | August 20, 2012.
83,008N | Quest Diagnostics, IT Infrastructure | Tampa, FL | August 20, 2012.
83,008NN | Quest Diagnostics, IT Infrastructure | Lebanon, TN | August 20, 2012.
83,008O | Quest Diagnostics, IT Infrastructure | Tampa, FL | August 20, 2012.
83,008OO | Quest Diagnostics, IT Infrastructure and IT Applications Support, Judge Technical Services | Dallas, TX | August 20, 2012.
83,008P | Quest Diagnostics, IT Infrastructure | Tampa, FL | August 20, 2012.
83,008PP | Quest Diagnostics, IT Infrastructure | Chantilly, VA | August 20, 2012.
83,008Q | Quest Diagnostics, IT Infrastructure, CGI Technologies and Solutions, Inc | Venice, FL | August 20, 2012.
83,008QQ | Quest Diagnostics, IT Applications Support | Vancouver, WA | August 20, 2012.
83,008R | Quest Diagnostics, IT Infrastructure | Tucker, GA | August 20, 2012.
83,008S | Quest Diagnostics, IT Infrastructure | Schaumburg, IL | August 20, 2012.
83,008T | Quest Diagnostics, IT Infrastructure and IT Applications Support, Insight Global, Inc | Lenexa, KS | August 20, 2012.
83,008U | Quest Diagnostics, IT Infrastructure | Baltimore, MD | August 20, 2012.
83,008V | Quest Diagnostics, IT Infrastructure | Cambridge, MA | August 20, 2012.
83,008W | Quest Diagnostics, IT Applications Support, Compass Systems & Programming, etc | Worcester, MA | August 20, 2012.
83,008X | Quest Diagnostics, IT Applications Support, TATA America Int'l Corporation | Auburn Hills, MI | August 20, 2012.
83,008Y | Quest Diagnostics, IT Infrastructure and IT Applications Support | St. Louis, MO | August 20, 2012.
83,008Z | Quest Diagnostics, IT Applications Support | Lincoln, NE | August 20, 2012.
83,023 | Lumenis, Inc., Lumenis, Ltd | Salt Lake City, UT | August 21, 2012.
83,029 | Psion Corporation, Motorola Solutions, Inc., Repair and Refurbishment, Finance Dept. | Hebron, KY | August 12, 2012.
83,032 | Hireright, Inc., International Background Checks Division, Altegrity | Irvine, CA | August 27, 2012.
83,060 | Lonza Biologics, Inc., Lonza Group, Ltd., Aerotek and Suburban Group | Hopkinton, MA | September 1, 2012.
83,063 | Henkel Corporation, Henkel of America, Inc., Customer Service Group, Agile1 | Rocky Hill, CT | September 6, 2012.
83,065 | Imation Corporation | Oakdale, MN | September 6, 2012.
83,065A | Imation Corporation | Campbell, CA | September 6, 2012.
83,065B | Imation Corporation | Thousand Oaks, CA | September 6, 2012.
83,065C | Imation Corporation | Escondido, CA | September 6, 2012.
83,066 | PCC Airfoils, LLC, Precision Castparts Corporation, Randstad | Minerva, OH | September 5, 2012.
83,066A | PCC Airfoils, LLC, Precision Castparts Corporation, Randstad | Crooksville, OH | September 5, 2012.
83,068 | FLSmidth Salt Lake City, Inc., Finance Services Division | Midvale, UT | September 5, 2012.
83,069 | FLSmidth Spokane, Inc., Financial Services Division, Volt Management Corporation | Spokane, WA | September 5, 2012.
83,077 | Mitel Delaware, Inc., Technical Support Department, Mitel Networks Corporation | Mesa, AZ | September 12, 2012.
83,079 | TTelectronics/BiTechnologies, Ghro, Kelly Services, Pathway (Presviously &quot;MJO&quot;) and Spherion | Fullerton, CA | September 12, 2012.
83,086 | PI. U.S. Holding Inc., Workers Reporting Wages under Rheem Sales Company and Rheem, etc | Fort Smith, AR | August 5, 2013.
83,087 | Schweitzer-Mauduit International, Gallman Personnel Services of the Midlands and J&J Services | Newberry, SC | September 16, 2012.
83,091 | Gits Manufacturing Company, LLC, Creston Plant Division, Actuant Corp., Advance Services, etc | Creston, IA | September 16, 2012.
83,094 | Caterpillar Reman Powertrain Services, Inc., Caterplillar, Inc., Accountemps, Aerotek, Phillips Staffing, etc | Summerville, SC | September 17, 2012.
83,101 | InterMetro Industries Corporation, Fostoria, Ohio Facility Division, Emerson | Fostoria, OH | December 16, 2013.
83,110 | TK Holding, Inc., Finance Department | San Antonio, TX | August 30, 2012.
83,110A | TK Holding, Inc., Finance Department | Greensboro, NC | August 30, 2012.
83,119 | Times Fiber Communications, Amphenol | Chatham, VA | April 26, 2013.
83,126 | Abbott Laboratories, Abbott Vascular Division, TapFin | Temecula, CA | September 27, 2012.
83,127 | Robert Bosch Tool Corporation, Measuring Tools, Power Tools North America Division, Manpower | Watseka, IL | September 27, 2012.
83,134 | Hoover Universal, Inc., Johnson Controls, Inc., Automotive Experience Div., Finished Goods, Elwood | El Paso, TX | October 10, 2012.
83,138 | Cummins Filtration, Cummins Inc., Manpower | Lake Mills, IA | October 20, 2013.
83,138A | Leased Workers from Whelan Security, Cummins Filtration | Lake Mills, IA | September 30, 2012.
83,147 | Warren Corporation, Loro Piana S.P.A., Textile Division | Stafford Springs, CT | December 15, 2013

The following certifications have been issued. The requirements of Section 222(c) (supplier to a firm whose workers are certified eligible to apply for TAA) of the Trade Act have been met.

TA-W No. | Subject firm | Location | Impact date
82,870 | Keystone Printed Specialties | Old Forge, PA | July 1, 2012.

Negative Determinations for Worker Adjustment Assistance

In the following cases, the investigation revealed that the eligibility criteria for worker adjustment assistance have not been met for the reasons specified.

The investigation revealed that the criteria under paragraphs(a)(2)(A) (increased imports) and (a)(2)(B) (shift in production or services to a foreign country) of section 222 have not been met.

TA-W No. | Subject firm | Location | Impact date
82,943 | Pepperidge Farms, Aiken Staffing | Aiken, SC. |
82,996 | Pratt & Whitney, United Technologies Corp., Global Supply Chain, Quest Global Staffing, etc | East Hartford, CT. |
82,996A | Pratt & Whitney, United Technologies Corp., Global Supply Chain, Quest Global Staffing, etc | Middletown, CT. |
83,061 | Bank of America, Internal Call Center | Fresno, CA. |
83,067 | Infiniti Plastic Technologies Inc., Infiniti Media Inc | Paducah, KY. |
83,092 | Green Mountain Power Corporation, Northern New England Energy Corp., Meter Services Div., Meter Operations | Colchester, VT. |
83,097 | SBE, Inc., D/B/A SB Electronics, Inc., Orange Drop Product Line | Barre, VT. |
83,098 | Palomar Health, Medical Transcription Department | Escondido, CA. |

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W No. | Subject firm | Location | Impact date
83,003 | Daikin McQuay | Auburn, NY |
83,142 | JCS 5 Star Outlet, SB Capital Acquisitions | Columbus, OH |

The following determinations terminating investigations were issued because the petitioning groups of workers are covered by active certifications. Consequently, further investigation in these cases would serve no purpose since the petitioning group of workers cannot be covered by more than one certification at a time.

TA-W No. | Subject firm | Location | Impact date
83,046 | Fairchild Semiconductor, Product Development Group | West Jordan, UT |

The following determinations terminating investigations were issued because the petitions are the subject of ongoing investigations under petitions filed earlier covering the same petitioners.

TA-W No. | Subject firm | Location | Impact date
83,141 | Pitney Bowes, Inc., Customer Support Services Group | Neenah, WI |

I hereby certify that the aforementioned determinations were issued during the period of October 21, 2013 through November 1, 2013. These determinations are available on the Department's Web site tradeact/taa/taa_search_form.cfm under the searchable listing of determinations or by calling the Office of Trade Adjustment Assistance toll free at 888-365-6822.

Signed at Washington, DC this 7th day of November 2013.
Michael W. Jaffe,
Certifying Officer, Office of Trade Adjustment Assistance.

[FR Doc. 2013-27938 Filed 11-20-13; 8:45 am]

BILLING CODE 4510-FN-P